DEPARTMENT OF COMMERCE

International Trade Administration

[A-570-900]

Diamond Sawblades and Parts Thereof From the People's Republic of China: Notice of Amended Final Results

AGENCY: Enforcement and Compliance, International Trade Administration, Department of Commerce.

SUMMARY: On October 27, 2021, the U.S. Court of International Trade (CIT) issued its final judgment in Diamond Sawblades Manufacturers' Coalition v. United States, Court No. 17-00167, sustaining the Department of Commerce (Commerce)'s second remand results pertaining to the administrative review of the antidumping duty (AD) order on diamond sawblades and parts thereof from the People's Republic of China (China) covering the period from November 1, 2014, through October 31, 2015. Commerce is notifying the public that it is amending the final results of review with respect to the dumping margin assigned to Bosun Tools Co., Ltd. (Bosun) and the 22 non-selected respondents that received a separate rate.

DATES: Applicable November 6, 2021.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On June 12, 2017, Commerce published its Final Results in the 2014-2015 AD administrative review of diamond sawblades and parts thereof from China. Commerce calculated a rate of 6.91 for Bosun and assigned that rate to the non-selected respondents that received a separate rate.¹

¹ See Diamond Sawblades and Parts Thereof from the People's Republic of China: Final Results of Antidumping Duty Administrative Review; 2014-2015, 82 FR 26912 (June 12, 2017) (Final Results).

The Diamond Sawblades Manufacturers' Coalition (the petitioner) appealed Commerce's Final Results. On October 23, 2018, the CIT remanded the Final Results to Commerce to further clarify or reconsider Commerce's conclusion that Bosun acted to the best of its ability in responding to Commerce's requests for information.²

² See Diamond Sawblades Manufacturers' Coalition v. United States, Court No. 17-00167, Slip Op. 18-146 (CIT October 23, 2018).

In its first remand redetermination, issued in April 2019, Commerce concluded that Bosun failed to cooperate to the best of its ability and applied a rate based entirely on adverse facts available (AFA) to Bosun; Commerce also assigned that rate to the non-selected respondents that received a separate rate.³ The CIT sustained the first remand redetermination, but later remanded for a second time for further proceedings in conformity with the opinion of the Court of Appeals for the Federal Circuit, which ruled that Commerce needed to determine whether there was any basis to disregard the Bosun-supplied origin information for certain sales to unaffiliated U.S. customers during the period of review.⁴

³ See Final Remand Redetermination, Diamond Sawblades Manufacturers' Coalition v. United States, Court No. 17-00167, Slip Op. 18-146, dated April 17, 2019, available at https://access.trade.gov/resources/remands/18-146.pdf.

⁴ See Diamond Sawblades Manufacturers' Coalition v. United States, Court No. 17-00167 (CIT March. 25, 2021) (referencing Diamond Sawblades Mfrs. Coal. v. United States, 986 F.3d 1351 (CAFC 2021)).

In its second remand redetermination, issued in July 2021, Commerce found that AFA was appropriate to apply to only certain of Bosun's sales to U.S. customers. Accordingly, Commerce recalculated Bosun's margin and assigned Bosun's rate to the non-selected respondents that received a separate rate.⁵ The CIT sustained Commerce's final redetermination.⁶

⁵ See Final Remand Redetermination, Diamond Sawblades Manufacturers' Coalition v. United States, Court No. 17-00167, Appeal No. 20-1478, dated July 13, 2021.

⁶ See Diamond Sawblades Manufacturers' Coalition v. United States, Court No. 17-00167, Slip Op. 21-150 (CIT October 27, 2021).

Amended Final Results

Because there is now a final court judgment, Commerce is amending its Final Results with respect to Bosun and the 22 non-selected respondents that received a separate rate as follows:

Company | Amended final margin (percent)
Bosun Tools Co., Ltd | 15.91
Chengdu Huifeng Diamond Tools Co., Ltd | 15.91
Danyang Hantronic Import & Export Co., Ltd | 15.91
Danyang Huachang Diamond Tools Manufacturing Co., Ltd | 15.91
Danyang Like Tools Manufacturing Co., Ltd | 15.91
Danyang NYCL Tools Manufacturing Co., Ltd | 15.91
Danyang Weiwang Tools Manufacturing Co., Ltd | 15.91
Guilin Tebon Superhard Material Co., Ltd | 15.91
Hangzhou Deer King Industrial and Trading Co., Ltd | 15.91
Hangzhou Kingburg Import & Export Co., Ltd | 15.91
Huzhou Gu's Import & Export Co., Ltd | 15.91
Jiangsu Inter-China Group Corporation | 15.91
Jiangsu Youhe Tool Manufacturer Co., Ltd | 15.91
Qingyuan Shangtai Diamond Tools Co., Ltd | 15.91
Quanzhou Zhongzhi Diamond Tool Co., Ltd | 15.91
Rizhao Hein Saw Co., Ltd | 15.91
Saint-Gobain Abrasives (Shanghai) Co., Ltd | 15.91
Shanghai Jingquan Industrial Trade Co., Ltd | 15.91
Sino Tools Co., Ltd | 15.91
Weihai Xiangguang Mechanical Industrial Co., Ltd | 15.91
Wuhan Wanbang Laser Diamond Tools Co., Ltd | 15.91
Xiamen ZL Diamond Technology Co., Ltd | 15.91
Zhejiang Wanli Tools Group Co., Ltd | 15.91

Cash Deposit Requirements

Because all the exporters listed above have a superseding cash deposit rate, i.e., there have been final results published in a subsequent administrative review, we will not issue revised cash deposit instructions to U.S. Customs and Border Protection (CBP). This notice does not affect the current cash deposit rate.

Liquidation of Suspended Entries

At this time, Commerce remains enjoined by CIT order from issuing instructions to liquidate entries that were exported by Bosun Tools Co., Ltd., and imported by or sold to (as indicated on the commercial invoice or Customs documentation) Bosun Tools, Inc. or Bosun Tools Inc., or exported by the non-selected respondents that received a separate rate, and were entered, or withdrawn from warehouse, for consumption during the period November 1, 2014, through October 31, 2015. These entries will remain enjoined pursuant to the terms of the injunction during the pendency of any appeals process.

In the event the CIT's ruling is not appealed, or, if appealed, is upheld by a final and conclusive court decision, Commerce intends to instruct CBP to assess antidumping duties on unliquidated entries of subject merchandise exported by Bosun Tools Co., Ltd., and imported by or sold to (as indicated on the commercial invoice or Customs documentation) Bosun Tools, Inc. or Bosun Tools Inc., or exported by the non-selected respondents that received a separate rate in accordance with 19 CFR 351.212(b). We will instruct CBP to assess antidumping duties on all appropriate entries covered by this review when the importer-specific ad valorem assessment rate is not zero or de minimis. Where an import-specific ad valorem assessment rate is zero or de minimis,⁷ we will instruct CBP to liquidate the appropriate entries without regard to antidumping duties.

⁷ See 19 CFR 351.106(c)(2).

Notification to Interested Parties

This notice is issued and published in accordance with sections 516A(c) and (e) and 777(i)(1) of the Act.

Dated: November 4, 2021.
Ryan Majerus,
Deputy Assistant Secretary for Policy and Negotiations, performing the non-exclusive functions and duties of the Assistant Secretary for Enforcement and Compliance.

[FR Doc. 2021-24578 Filed 11-9-21; 8:45 am]

BILLING CODE 3510-DS-P